Proclamation 10718 of March 29, 2024

National Child Abuse Prevention Month, 2024

By the President of the United States of America

A Proclamation

There is no greater sin than the abuse of power, especially when that abuse is directed at a child. During National Child Abuse Prevention Month, we stand together to prevent abuse and neglect, support brave survivors, and build strong communities and families where every child can grow up happy and safe.

For far too many children across America, the violence, fear, and intimidation associated with physical and emotional abuse define their most formative years. The emotional scars can last a lifetime, making it hard to form healthy relationships, upending their futures, and perpetuating a toxic cycle of abuse. As a United States Senator, I fought to change that by writing and championing the Violence Against Women Act (VAWA), the first law of its kind, which helped secure safety and justice for women and children impacted by domestic violence. Since then, each time we reauthorized VAWA, we have made it stronger—including in 2022, when we increased authorized resources available to children who have been exposed to domestic violence and extended greater jurisdiction to Tribal Courts prosecuting child abuse cases on their own lands.

We are also working to prevent abuse and give survivors the resources they need to heal and thrive. The American Rescue Plan invested $350 million in improving child protective services at the State level and in expanding local child abuse prevention programs. In 2022, I signed a bill that eliminates the Federal statute of limitations for civil claims filed by survivors of child sexual abuse so they can still pursue justice as adults. The Department of Justice is also investing in Children's Advocacy Centers across the country to help law enforcement investigate and prosecute child sexual abuse and exploitation, including acts committed online. The Department of Homeland Security is launching a Government-led campaign to combat the threat of child abuse and exploitation online, which will bring awareness to this growing threat; teach children, parents, caregivers, and educators how to report these crimes; and offer resources to survivors.

Every child in America deserves to grow up safe, supported, and surrounded by love. This month, we remember that we all play a part in making that real. For more information on how to recognize and report child abuse or neglect and to support loving families and safe communities visit childwelfare.gov.

NOW, THEREFORE, I, JOSEPH R. BIDEN JR., President of the United States of America, by virtue of the authority vested in me by the Constitution and the laws of the United States, do hereby proclaim April 2024 as National Child Abuse Prevention Month. I call upon all Americans to observe this month by joining together as a Nation to promote the safety and well-being of all children and families and to recognize the child welfare professionals and allies who work tirelessly to protect our children. Let us also honor the strength and resilience of survivors of child abuse.

IN WITNESS WHEREOF, I have hereunto set my hand this twenty-ninth day of March, in the year of our Lord two thousand twenty-four, and of the Independence of the United States of America the two hundred and forty-eighth.

[FR Doc. 2024-07189

Filed 4-2-24; 8:45 am]

Billing code 3395-F4-P